DEPARTMENT OF THE INTERIOR

Fish and Wildlife Service

[FWS-R3-R-2012-N283; FXRS1265030000-134-FF03R06000]

Big Oaks National Wildlife Refuge, IN; Glacial Ridge National Wildlife Refuge, MN; Northern Tallgrass Prairie National Wildlife Refuge, MN; Whittlesey Creek National Wildlife Refuge, WI

AGENCY: Fish and Wildlife Service, Interior.

ACTION: Notice of intent; request for comments.

SUMMARY: We, the U.S. Fish and Wildlife Service (Service), announce our intent to prepare comprehensive conservation plans (CCP) and associated environmental documents for the Big Oaks, Glacial Ridge, Northern Tallgrass Prairie, and Whittlesey Creek National Wildlife Refuges (Refuge, NWR). In these CCPs we will describe how we propose to manage the refuges for the next 15 years. We also invite public comment on the scope of issues that should be considered during the planning process.

We will hold open house-style meetings to receive comments and provide information on the planning process. In addition, we will use special mailings, newspaper articles, Internet postings, and other media announcements to inform people of opportunities for input.

ADDRESSES: Comments or requests for more information can be sent to the appropriate refuge at the following addresses:

• Attention: Refuge Manager, Big Oaks NWR, 1661 West JPG Niblo Road, Madison, IN 47250.

• Attention: Refuge Manager, Glacial Ridge NWR, 17788 349th St. SE., Erskine, MN 56535.

• Attention: Refuge Manager, Northern Tallgrass Prairie NWR, 44843 687th Avenue, Odessa, MN 56276.

• Refuge Manager, Whittlesey Creek NWR, Northern Great Lakes Visitor Center, 29270 County Highway G, Ashland, WI 54806.

You may also submit comments electronically and find information about the CCP planning process on the planning Web site, at http://www.fws.gov/midwest/planning, or you may email comments to r3planning@fws.gov.

FOR FURTHER INFORMATION CONTACT: Joe Robb, Big Oaks NWR, 812-273-0783; David Bennett, Glacial Ridge NWR, 218-687-2229; Alice Hanley, Northern Tallgrass Prairie NWR, 320-273-2191; or Tom Kerr, Whittlesey Creek NWR, 715-246-7784.

SUPPLEMENTARY INFORMATION:

Introduction

With this notice, we initiate the CCP process for Big Oaks NWR, with headquarters in Madison, IN; Glacial Ridge NWR, with headquarters in Erskine, MN; Northern Tallgrass Prairie NWR, with headquarters in Odessa, MN; and Whittlesey Creek NWR, with headquarters in Ashland, WI.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

We will conduct a comprehensive conservation planning process that provides opportunity for Tribal, State, and local governments; agencies; organizations; and the public to participate in issues scoping and public comment on the future management of Big Oaks NWR, Glacial Ridge NWR, Northern Tallgrass Prairie NWR, and Whittlesey Creek NWR.

The environmental review of these projects will be conducted in accordance with the requirements of the National Environmental Policy Act (NEPA) (43 U.S.C. 4321 et seq.), other appropriate laws and regulations, and our policies and procedures for compliance with those regulations.

Public Availability of Comments

Before including your address, phone number, email address, or other personal identifying information in your comment, you should be aware that your entire comment—including your personal identifying information—may be made publicly available at any time. While you can ask us in your comment to withhold your personal identifying information from public review, we cannot guarantee that we will be able to do so.

Charles M. Wooley,
Acting Regional Director, Midwest Region, U.S. Fish and Wildlife Service.

[FR Doc. 2013-00899 Filed 1-16-13; 8:45 am]

BILLING CODE P